DEPARTMENT OF ENERGY

Public Meeting To Discuss Next Steps Toward Implementing a Consent-Based Siting Process for Nuclear Waste Storage and Disposal Facilities

AGENCY: Fuel Cycle Technologies, Office of Nuclear Energy, Department of Energy.

ACTION: Notice of Public Meeting.

SUMMARY: The U.S Department of Energy (DOE) is implementing a consent-based siting process to establish an integrated waste management system to transport, store, and dispose of commercial spent nuclear fuel and high level defense radioactive waste. In a consent-based siting approach, DOE will work with communities, tribal governments and states across the country that express interest in hosting any of the facilities identified as part of an integrated waste management system. DOE is hosting a public meeting on January 20, 2016 to discuss next steps towards implementing a consent-based siting process for nuclear waste storage and disposal facilities.

Type of meeting: Open meeting.

Date: January 20, 2016.

Time: 1:00 p.m.-4:00 p.m. Eastern Time.

Location: Renaissance Washington, DC Downtown Hotel. 999 9th St NW., Washington, DC 20001.

Remote Access and Registration: Attendees are encouraged to pre-register to expedite the check in process. Seating is limited to the room capacity and seats will be available on a first come, first served basis. The meeting will include a conference call phone number and will be webcast live on the Internet. Registration and remote access instructions including technical support contact information will be provided on the DOE Web site prior to the meeting at http://www.energy.gov/consentbasedsiting.

FOR FURTHER INFORMATION CONTACT: consentbasedsiting@hq.doe.gov or check the DOE Web site at http://www.energy.gov/consentbasedsiting.

Issued in Washington, DC, on January 6, 2016.
Andrew Richards,
Chief of Staff, Office of Nuclear Energy, Department of Energy.

[FR Doc. 2016-00389 Filed 1-11-16; 8:45 am]

BILLING CODE 6450-01-P